DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 20 individuals and 25 entities whose property and interests in property have been blocked pursuant to the Foreign Narcotics Kingpin Designation Act (“Kingpin Act”) (21 U.S.C. 1901-1908, 8 U.S.C. 1182). In addition, OFAC is publishing additions to the identifying information associated with three individuals previously designated pursuant to the Kingpin Act.

DATES: The designation by the Director of OFAC of 20 individuals and 25 entities identified in this notice pursuant to section 805(b) of the Kingpin Act is effective on December 14, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On December 14, 2010, the Director of OFAC designated 20 individuals and 25 entities whose property and interests in property are blocked pursuant to section 805(b) of the Foreign Narcotics Kingpin Designation Act.

The list of these designees is as follows:

Individuals

1. BERNAL BERNAL, Lina Maria, c/o T PLUS S.A.S., Cota, Cundinamarca, Colombia; DOB 01 Jul 1984; Cedula No. 52818850 (Colombia) (individual) [SDNTK]

2. DORIA CASTILLO, Danit Dario, c/o INVERSIONES MINERAS H.D. EMPRESA UNIPERSONAL, Caucasia, Antioquia, Colombia; DOB 12 Jan 1971; alt. DOB 01 Dec 1971; Cedula No. 8048598 (Colombia) (individual) [SDNTK]

3. GALEANO HERRENO, Saul, c/o 7 KARNES, Bogota, Colombia; DOB 26 Oct 1940; Cedula No. 5785990 (Colombia) (individual) [SDNTK]

4. GALEANO JEREZ, Nohora, c/o ADN CONSULTORES LTDA., Bogota, Colombia; DOB 17 Sep 1968; Cedula No. 51918595 (Colombia) (individual) [SDNTK]

5. GALINDO MARTINEZ, Fernando Alberto, c/o MELRUX RICA S PIZZA, Bogota, Colombia; Calle 24C No. 75-59, Bogota, Colombia; Calle 119A No. 57-40 Torre 6 Ap. 1018, Bogota, Colombia; Carrera 45 No. 24A-05, Bogota, Colombia; Carrera 75 No. 24C-22, Bogota, Colombia; DOB 09 Apr 1971; Cedula No. 79574058 (Colombia) (individual) [SDNTK]

6. GOMEZ RUA, Adolfo Leon, c/o COMERCIALIZADORA AUTOMOTORA MATECANA LTDA., Pereira, Colombia; c/o DIGITAL COMUNICATIONS SERVICE LTDA., Bello, Antioquia, Colombia; c/o DOLAUTOS VEHICULOS E INMUEBLES Y CIA. LTDA., Medellin, Colombia; c/o INVERSIONES BUENOS AIRES LTDA., Pereira, Colombia; DOB 28 Apr 1964; POB Bello, Antioquia, Colombia; Cedula No. 98487118 (Colombia) (individual) [SDNTK]

7. HERRENO BARRERA, Alejandro, c/o MOJETE PARRILLA, Bogota, Colombia; DOB 13 May 1977; Cedula No. 79852514 (Colombia) (individual) [SDNTK]

8. ISAZA ALVAREZ, Carlos Arturo, c/o AGROFUTURO R.H. Y CIA. S.C.S., Medellin, Colombia; c/o COMERCIALIZADORA AUTOMOTORA MATECANA LTDA., Pereira, Colombia; c/o COMERCIALIZADORA EL PROVEEDOR LTDA., Villavicencio, Colombia; c/o INVERSIONES BUENOS AIRES LTDA., Pereira, Colombia; c/o INVERSIONES Y DISTRIBUCIONES COLOMBIANAS EL OASIS LTDA., Villavicencio, Colombia; c/o PROVEEDORES Y DISTRIBUIDORES NACIONALES S.A., Bogota, Colombia; DOB 15 Aug 1947; Cedula No. 8281272 (Colombia) (individual) [SDNTK]\

9. MARTINEZ, Alicia (a.k.a. MARTINEZ GALINDO, Alicia), c/o AMG RICAS PIZZA, Bogota, Colombia; DOB 26 Mar 1948; Cedula No. 41386662 (Colombia) (individual) [SDNTK]

10. MOLANO TORRES, Deysi Yamile, Calle 12 No. 10A-60, Fuente de Oro, Meta, Colombia; San Jose del Guaviare, Colombia; Villavicencio, Colombia; DOB 23 Aug 1986; POB Puerto Rico, Meta, Colombia; Cedula No. 1123530588 (Colombia) (individual) [SDNTK]

11. PENA TORRES, Miguel de los Santos, c/o COMERCIALIZADORA EL PROVEEDOR LTDA., Villavicencio, Colombia; c/o HACIENDA VENDAVAL, Paratebueno, Cundinamarca, Colombia; c/o INVERSIONES Y DISTRIBUCIONES COLOMBIANAS EL OASIS LTDA., Villavicencio, Colombia; c/o PROVEEDORES Y DISTRIBUIDORES NACIONALES S.A., Bogota, Colombia; Carrera 47A No. 22-40 Apto. 504, Bogota, Colombia; DOB 07 Jul 1941; POB Santa Rosa de Viterbo, Boyaca, Colombia; Cedula No. 5549825 (Colombia) (individual) [SDNTK]

12. REY REY, Blanca Lucy, c/o SERVICIOS TURISTICOS EL GALERON LLANERO LTDA., San Martin, Meta, Colombia; c/o SUCESORES DE HERNANDO SANCHEZ V S.C.S., Bogota, Colombia; Avenida 19 No. 118-30, Bogota, Colombia; Hacienda Santa Rosa, San Martin, Meta, Colombia; DOB 01 Jul 1953; Cedula No. 41616052 (Colombia) (individual) [SDNTK]

13. RODRIGUEZ ROMERO, Martha Ines, c/o AGROPECUARIA SERRO S.A.S., Bogota, Colombia; c/o FERTILIZANTES LIQUIDOS DE LA SABANA LTDA., Bogota, Colombia; Calle 109 No. 21-41 Apto. 403, Bogota, Colombia; Calle 109 No. 21-01 Apto. 401, Bogota, Colombia; DOB 18 May 1953; POB Bogota, Colombia; Cedula No. 41590271 (Colombia) (individual) [SDNTK]

14. ROMERO BARRERA, Benedicto, c/o AGROFUTURO R.H. Y CIA. S.C.S., Medellin, Colombia; c/o COLOMBIAN GREEN STONE CORPORATION LTDA., Bogota, Colombia; c/o ONLYTEX S.A., Sabaneta, Antioquia, Colombia; DOB 06 Jan 1964; POB Campohermoso, Boyaca, Colombia; Cedula No. 1015491 (Colombia) (individual) [SDNTK]

15. SANCHEZ REY, Alberto de Set, c/o SERVICIOS TURISTICOS EL GALERON LLANERO LTDA., San Martin, Meta, Colombia; c/o SUCESORES DE HERNANDO SANCHEZ V S.C.S., Bogota, Colombia; Avenida 19 No. 118-30 Of. 302, Bogota, Colombia; Hacienda Santa Rosa, San Martin, Meta, Colombia; DOB 01 Jan 1972; Cedula No. 79568901 (Colombia); Matricula Mercantil No 1969885 (Colombia) (individual) [SDNTK]

16. SANCHEZ REY, German Gonzalo (a.k.a. “COLETA”), c/o SERVICIOS TURISTICOS EL GALERON LLANERO LTDA., San Martin, Meta, Colombia; c/o SUCESORES DE HERNANDO SANCHEZ V S.C.S., Bogota, Colombia; Calle 41A No. 55-49, Bogota, Colombia; DOB 22 Feb 1973; POB Barrancabermeja, Santander, Colombia; Cedula No. 79625841 (Colombia) (individual) [SDNTK]

17. SANCHEZ REY, Hernando, c/o SERVICIOS TURISTICOS EL GALERON LLANERO LTDA., San Martin, Meta, Colombia; c/o SUCESORES DE HERNANDO SANCHEZ V S.C.S., Bogota, Colombia; Avenida 19 No. 118-30 Of. 302, Bogota, Colombia; DOB 8 Jul 1974; Cedula No. 79626433 (Colombia); Matricula Mercantil No 1738008 (Colombia) (individual) [SDNTK]

18. SERRALDE PLAZA, Carlos Fernando, c/o AGROPECUARIA SERRO S.A.S., Bogota, Colombia; c/o OBRAS, SERVICIOS Y MANTENIMIENTOS C.A., Ciudad Ojeda, Zulia, Venezuela; Calle 98 Bis No. 57-66, Bogota, Colombia; Calle 136 No. 59-80 Apto. 102 T-6, Bogota, Colombia; DOB 08 Nov 1950; POB Popayan, Cauca, Colombia; Cedula No. 19134433 (Colombia); alt. Cedula No. 83406533 (Venezuela); Matricula Mercantil No 1751356 (Colombia) (individual) [SDNTK]

19. SERRALDE RODRIGUEZ, Carlos Hernan, c/o AGROPECUARIA SERRO S.A.S., Bogota, Colombia; c/o ASOCIACION COLOMBIANA DE CRIADORES DE GANADO LIMOUSIN, Bogota, Colombia; Calle 152 No. 58-51 Apto. 501—Torre 5, Bogota, Colombia; DOB 08 Oct 1975; POB Bogota, Colombia; Cedula No. 79689496 (Colombia) (individual) [SDNTK]

20. ZARATE MORENO, Rutdy Alirio (a.k.a. “RUNCHO”), c/o IMPORTACIONES Y EXPORTACIONES ZAFIRO S.L., Madrid, Spain; Calle 68 No. 60-10, Bogota, Colombia; DOB 19 Mar 1968; Cedula No. 80368114 (Colombia); Matricula Mercantil No 513926 (Colombia) (individual) [SDNTK]

Entities

1. 7 KARNES, Avenida Ciudad de Cali No. 15A-91, Local A06-07, Bogota, Colombia; Matricula Mercantil No 1978075 (Colombia) [SDNTK]

2. ADN CONSULTORES LTDA., Calle 58 No. 20-45 P 3, Bogota, Colombia; NIT #830109795-8 (Colombia) [SDNTK]

3. AGROFUTURO R.H. Y CIA. S.C.S., Calle 80 Sur No. 47D-65 Bod. 114, Medellin, Colombia; NIT #811039023-0 (Colombia) [SDNTK]

4. AGROPECUARIA SERRO S.A.S. (a.k.a. AGROSERRO), Carrera 14A No. 101-11 Of. 403, Bogota, Colombia; Finca Criadero Las Palmas, Guaymaral, Cundinamarca, Colombia; NIT #890935433-8 (Colombia) [SDNTK]

5. AMG RICAS PIZZA (a.k.a. FUSION PIZZA & PARRILLA; a.k.a. RICA'S PIZZA), Carrera 45 No. 24A-05, Bogota, Colombia; Matricula Mercantil No 1323961 (Colombia) [SDNTK]

6. ASOCIACION COLOMBIANA DE CRIADORES DE GANADO LIMOUSIN (a.k.a. ASOLIMOUSIN), Carrera 14A No. 101-11 Of. 403, Bogota, Colombia; NIT #800099351-8 (Colombia) [SDNTK]

7. CIA. AGROINDUSTRIAL PALMERA S.A. (a.k.a. AGROINDUPALMA S.A.), C.C. Villacentro Blq. B Ofc. 414, Villavicencio, Colombia; NIT #900197835-3 (Colombia) [SDNTK]

8. COLOMBIAN GREEN STONE CORPORATION LTDA., Calle 136 No. 30-49, Bogota, Colombia; NIT #830112015-2 (Colombia) [SDNTK]

9. COMERCIALIZADORA AUTOMOTORA MATECANA LTDA., Carrera 13 No. 69-00 Avenida 30 de Agosto, Pereira, Colombia; NIT #816002220-3 (Colombia) [SDNTK]

10. COMERCIALIZADORA EL PROVEEDOR LTDA., Carrera 38 No. 26B-11 Of. 201, Villavicencio, Colombia; NIT #860524177-4 (Colombia) [SDNTK]

11. DIGITAL COMUNICATIONS SERVICE LTDA., Carrera 14 No. 19-3, Granada, Meta, Colombia; Diagonal 55 No. 34-52, Bello, Antioquia, Colombia; NIT #900020090-3 (Colombia) [SDNTK]

12. DOLAUTOS VEHICULOS E INMUEBLES Y CIA. LTDA. (a.k.a. TALLER RAMIAUTOS I.P.), Carrera 45 No. 31-208, Medellin, Colombia; Matricula Mercantil No 21-164137-02 (Colombia); NIT #800245860- 1 (Colombia) [SDNTK]

13. FERTILIZANTES LIQUIDOS DE LA SABANA LTDA. (a.k.a. FERTILISA LTDA.), Calle 98 Bis No. 57-66, Bogota, Colombia; Calle 98 Bis No. 71A-66, Bogota, Colombia; Via Siberia-Cota Km. 6, Vereda Rozo, Finca Ancon, Cota, Cundinamarca, Colombia; NIT #860536101-7 (Colombia) [SDNTK]

14. IMPORTACIONES Y EXPORTACIONES ZAFIRO S.L., Calle Gran Via, 31, Madrid 28013, Spain; C.I.F. B83065458 (Spain) [SDNTK]

15. INVERSIONES BUENOS AIRES LTDA. (a.k.a. HOTEL CABANAS EL OTUN), Avenida 30 de Agosto No. 87-580, Pereira, Colombia; NIT #800002386-9 (Colombia) [SDNTK]

16. INVERSIONES MINERAS H.D. EMPRESA UNIPERSONAL, Calle 16 No. 15-09, Caucasia, Antioquia, Colombia; Carrera 2A No. 19-15, Caucasia, Antioquia, Colombia; NIT #811008231-3 (Colombia) [SDNTK]

17. INVERSIONES Y DISTRIBUCIONES COLOMBIANAS EL OASIS LTDA. (a.k.a. ALMACEN EL OASIS; a.k.a. INDISCOL LTDA.), Calle 18 No. 13-85, Granada, Meta, Colombia; Carrera 43 No. 18-50 Casa E-8, Villavicencio, Colombia; NIT #800040864-1 (Colombia) [SDNTK]

18. LADRILLERA EL PORVENIR LTDA., Km. 5 Via al Retorno, San Jose del Guaviare, Colombia; NIT # 900054472-1 (Colombia) [SDNTK]

19. MELRUX RICA S PIZZA, Carrera 75 No. 24C- 22/24, Bogota, Colombia; Carrera 77A No. 41-20/22, Bogota, Colombia; Matricula Mercantil No 1158291 (Colombia) [SDNTK]

20. MOJETE PARRILLA, Carrera 75 No. 24C-15, Bogota, Colombia; Matricula Mercantil No 1980500 (Colombia) [SDNTK]

21. OBRAS, SERVICIOS Y MANTENIMIENTOS C.A. (a.k.a. OSERMACA), Av. Cristobal Colon, Arterial 7, Centro Empresarial Colon, Planta Alta, Ofic. B1, Ciudad Ojeda, Zulia, Venezuela; RIF #J-31136071-9 (Venezuela) [SDNTK]

22. ONLYTEX S.A., Calle 80 Sur No. 47D-65, Sabaneta, Antioquia, Colombia; NIT # 811029489-6 (Colombia) [SDNTK]

23. SERVICIOS TURISTICOS EL GALERON LLANERO LTDA. (a.k.a. PARADOR TURISTICO Y HOTEL GALERON LLANERO), Avenida 19 No. 118-30 Ofc. 302, Bogota, Colombia; Calle 6 No. 17-99, San Martin, Meta, Colombia; NIT #900025014-6 (Colombia) [SDNTK]

24. SUCESORES DE HERNANDO SANCHEZ V S.C.S., Avenida 19 No. 118-30 Ofc. 302, Bogota, Colombia; La Dorada, Caldas, Colombia; San Martin, Meta, Colombia; NIT #860071634-3 (Colombia) [SDNTK]

25. T PLUS S.A.S., Km. 3.5 Autop. Medellin Via Siberia Costado Sur Terminal, Terrestre de Carga Bloque 4 Bod. 32, Cota, Cundinamarca, Colombia; NIT #900345355-5 (Colombia) [SDNTK]

In addition, OFAC has made additions to the identifying information associated with the following three individuals previously designated pursuant to the Kingpin Act:

1. ECHEVERRY CADAVID, Nebio De Jesus (a.k.a. ECHEVERRI, Nevio; a.k.a. ECHEVERRY, Nevio), c/o HACIENDA VENDAVAL, Paratebueno, Cundinamarca, Colombia; c/o PROVEEDORES Y DISTRIBUIDORES NACIONALES S.A., Bogota, Colombia; Carrera 10 No. 46-43, Pereira, Colombia; Carrera 38 No. 26B-11, Villavicencio, Colombia; La Pastora, Vereda La Union, Dosquebradas, Risaralda, Colombia; DOB 28 Nov 1944; Cedula No. 10056431 (Colombia) (individual) [SDNTK]

2. LOPEZ CADAVID, Oscar De Jesus, c/o PROVEEDORES Y DISTRIBUIDORES NACIONALES S.A., Bogota, Colombia; Hacienda San Lorenzo, Paratebueno, Cundinamarca, Colombia; DOB 21 Jun 1956; Cedula No. 15502188 (Colombia) (individual) [SDNTK]

3. OSPINA MURILLO, Wilmer, c/o CIA. COMERCIALIZADORA DE MOTOCICLETAS Y REPUESTOS S.A., Granada, Meta, Colombia; c/o ESTACION DE SERVICIO LA FLORESTA DE FUENTE DE ORO, Fuente de Oro, Meta, Colombia; c/o ESTACION DE SERVICIO LA TURQUESA, Puerto Lleras, Meta, Colombia; c/o ESTACION DE SERVICIO SERVIAGRICOLA DEL ARIARI, Puerto Lleras, Meta, Colombia; c/o LA TASAJERA DE FUENTE DE ORO, Fuente de Oro, Meta, Colombia; c/o WISMOTOS FUENTE DE ORO, Fuente de Oro, Meta, Colombia; DOB 26 May 1970; Cedula No. 17344677 (Colombia) (individual) [SDNTK].

The listings for these individuals now appear as follows:

1. ECHEVERRY CADAVID, Nebio De Jesus (a.k.a. ECHEVERRI, Nevio; a.k.a. ECHEVERRY, Nevio), c/o COMERCIALIZADORA AUTOMOTORA MATECANA LTDA., Pereira, Colombia; c/o DIGITAL COMUNICATIONS SERVICE LTDA., Bello, Antioquia, Colombia; c/o HACIENDA VENDAVAL, Paratebueno, Cundinamarca, Colombia; c/o INVERSIONES BUENOS AIRES LTDA., Pereira, Colombia; c/o LADRILLERA EL PORVENIR LTDA., San Jose del Guaviare, Colombia; c/o PROVEEDORES Y DISTRIBUIDORES NACIONALES S.A., Bogota, Colombia; Carrera 10 No. 46-43, Pereira, Colombia; Carrera 38 No. 26B-11, Villavicencio, Colombia; La Pastora, Vereda La Union, Dosquebradas, Risaralda, Colombia; DOB 28 Nov 1944; Cedula No. 10056431 (Colombia) (individual) [SDNTK]

2. LOPEZ CADAVID, Oscar De Jesus, c/o COLOMBIAN GREEN STONE CORPORATION LTDA., Bogota, Colombia; c/o DIGITAL COMUNICATIONS SERVICE LTDA., Bello, Antioquia, Colombia; c/o LADRILLERA EL PORVENIR LTDA., San Jose del Guaviare, Colombia; c/o PROVEEDORES Y DISTRIBUIDORES NACIONALES S.A., Bogota, Colombia; Hacienda San Lorenzo, Paratebueno, Cundinamarca, Colombia; DOB 21 Jun 1956; Cedula No. 15502188 (Colombia) (individual) [SDNTK]

3. OSPINA MURILLO, Wilmer, c/o CIA. AGROINDUSTRIAL PALMERA S.A., Villavicencio, Colombia; c/o CIA. COMERCIALIZADORA DE MOTOCICLETAS Y REPUESTOS S.A., Granada, Meta, Colombia; c/o ESTACION DE SERVICIO LA FLORESTA DE FUENTE DE ORO, Fuente de Oro, Meta, Colombia; c/o ESTACION DE SERVICIO LA TURQUESA, Puerto Lleras, Meta, Colombia; c/o ESTACION DE SERVICIO SERVIAGRICOLA DEL ARIARI, Puerto Lleras, Meta, Colombia; c/o LA TASAJERA DE FUENTE DE ORO, Fuente de Oro, Meta, Colombia; c/o WISMOTOS FUENTE DE ORO, Fuente de Oro, Meta, Colombia; DOB 26 May 1970; Cedula No. 17344677 (Colombia) (individual) [SDNTK]

Dated: December 14, 2010.
Adam J. Szubin,
Director, Office of Foreign Assets Control.

[FR Doc. 2010-31809 Filed 12-17-10; 8:45 am]

BILLING CODE 4810-AL-P